SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 4, 2011.

ADDRESSES: Send all comments regarding whether these information collections are necessary for the proper performance of the function of the agency, whether the burden estimates are accurate, and if there are ways to minimize the estimated burden and enhance the quality of the collections, to A. B. McConnell, Jr., Chief 504 Program Branch, Office of Financial Assistance, Small Business Administration, 409 3rd Street, 8th Floor, Washington, DC 20416.

FOR FURTHER INFORMATION CONTACT: A. B. McConnell, Jr., Chief of 504 Branch, Office of Financial Assistance, 202-205-7238, Andrew.mcconnell@sba.gov; Curtis Rich, Management Analyst, 202-205-7030 curtis.rich@sba.gov.

SUPPLEMENTARY INFORMATION: The information collected through these forms from the small business applicants and participating lenders will be used to determine eligibility and to properly evaluate the merits of each loan request based on reasonable and customary underwriting criteria such as character, capacity, credit collateral, etc. This information is collected for the purpose of extending credit under the 504 loan program.

Title: U.S. Small Business Administration Application for Section 504 Loan.

Description of Respondents: 504 Lenders.

Form Number: SBA Form 1244.

Annual Responses: 6,800.

Annual Burden: 15,735.

Title: Eligibility Information Required for 504 Submission (non PCLP).

Description of Respondents: 504 Lenders.

Form Number: SBA Form 2415.

Annual Responses: 5,100.

Annual Burden: 4,675.

Title: PCLP Quarterly Loan Loss Reserve Report and PCLP Guarantee Request.

Description of Respondents: 504 Lenders.

Form Number: SBA Forms 2233, 2234 (Part A), 2234 (Part B), 2234 (Part C) (Note: SBA Form 2234 (Part C) is the only form being revised).

Annual Responses: 1,700.

Annual Burden: 1,558.

Title: Servicing Agent Agreement.

Description of Respondents: 504 Lenders.

Form Number: SBA Form 1506.

Annual Reponses: 7,830.

Annual Burden: 7, 830.

Curtis B. Rich,
Acting Chief, Administrative Information Branch.

[FR Doc. 2010-27925 Filed 11-4-10; 8:45 am]

BILLING CODE P